DEPARTMENT OF COMMERCE

National Oceanic and Atmospheric Administration

RIN 0648-XC996

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council), its Highly Migratory Species (HMS) Committee, and its Executive Committee will hold public meetings.

DATES: The meetings will be held Monday, December 9, 2013 through Thursday, December 12, 2013. See SUPPLEMENTARY INFORMATION for specific dates and times.

ADDRESSES: The meetings will be held at the Westin Annapolis, 100 Westgate Circle, Annapolis, MD 21401, telephone: (410) 972-4300.

Council address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255.

SUPPLEMENTARY INFORMATION:

Monday, December 9, 2013

3 p.m. until 5 p.m.—The HMS Committee will meet.

Tuesday, December 10, 2013

9 a.m. until 9:30 a.m.—The Executive Committee will meet in a CLOSED SESSION.

9:30 a.m. until 12 p.m.—The Executive Committee will meet.

1 p.m.—The Council will convene.

1 p.m. until 1:10 p.m.—A photo of the Council will be taken.

1:10 p.m. until 2 p.m.—Framework 9 to the Mackerel, Squid, and Butterfish (MSB) Fishery Management Plan (FMP) will be discussed.

2 p.m. until 3 p.m.—There will be a River Herring and Shad Approach discussion.

3 p.m. until 4 p.m.—A Data Portal Presentation will occur.

4 p.m. until 5 p.m.—A Surfclam Presentation will occur.

Wednesday, December 11, 2013

The Demersal Committee will meet as a Committee of the Whole with the Atlantic States Marine Fisheries Commission's (ASMFC) Summer Flounder, Scup, and Black Sea Board.

9 a.m. until 5 p.m.—The Council will finalize summer flounder, scup, and black sea bass recreational management measures for 2014 in conjunction with the ASMFC's Summer Flounder, Scup, and Black Sea Bass Board.

Thursday, December 12, 2013

9 a.m. until 9:30 a.m.—Spiny Dogfish Trip Limits will be discussed.

9:30 a.m. until 10 a.m.—A Stakeholder Survey on Ecosystem-based Fisheries Management Presentation will occur.

10 a.m. until 1 p.m.—The Council will hold its regular Business Session to receive Organizational Reports, the South Atlantic and the New England Liaison Reports, the Executive Director's Report, the Science Report, Committee Reports, and conduct any continuing and/or new business.

Agenda items by day for the Council's Committees and the Council itself are:

On Monday, December 9—The HMS Committee will develop Council comments on Draft Amendment 7 (bluefin tuna management measures) for submission to NMFS.

On Tuesday, December 10—The Executive Committee will meet in a closed session to review the recommendations for the Ricks E Savage Award. The Executive Committee will meet to review the Draft Implementation Plan and public comments, and approve the 2014 Implementation Plan for Council consideration.

The Council will convene at 1 p.m. There will be a Council photo session. The Council will discuss Framework 9 to the MSB FMP to review and approve options to address unobserved slippage on observed trips. The Council will review and adopt plan to move forward with the river herring and shad strategy implementing the motion made at the October 2013 meeting. The Council will receive a Data Portal Presentation to review project goals, methods and illustrative draft maps of Mid-Atlantic fishing activity summarized by port and gear groups and provide advice to project team on best approaches and opportunities for engaging fishermen to review, discuss and improve project data and maps. The Council will receive a report of the National Science Foundation Coupled Natural and Human Systems Surfclam Study: Climate change and responses in a coupled marine system and an update on the Science Center for Marine Fisheries (SceMFiS).

On Wednesday, December 11—The Council in conjunction with the ASMFC's Summer Flounder, Scup, and Black Sea Bass Board will review the associated Monitoring Committee's and Advisory Panel's specification recommendations for 2014 and adopt 2014 recreational management measures for summer flounder, scup, and black sea bass.

On Thursday, December 12—The Council will review options for spiny dogfish trip limits in federal waters for the 2014-15 fishing years. The Council will receive a presentation on the Stakeholder Survey on Ecosystem-based Fisheries Management. The Council will hold its regular Business Session to receive Organizational Reports to include an update on forms and process for data collection for the surfclam and ocean quahog fisheries, South Atlantic and New England Liaison Reports, the Executive Director's Report, Science Report, Committee Reports, and conduct any continuing and/or new business.

Special Accommodations

These meetings are physically accessible to people with disabilities. Requests for sign language interpretation or other auxiliary aid should be directed to M. Jan Saunders, (302) 526-5251, at least 5 days prior to the meeting date.

Dated: November 19, 2013.
Tracey L. Thompson,
Acting Deputy Director, Office of Sustainable Fisheries, National Marine Fisheries Service.

[FR Doc. 2013-28021 Filed 11-21-13; 8:45 am]

BILLING CODE 3510-22-P